DEPARTMENT OF COMMERCE

Foreign-Trade Zones Board

[Docket 9-2006]

Foreign-Trade Zone 149—Freeport, Texas, Expansion of Manufacturing Authority—Subzone 149C, ConocoPhillips, Sweeny, TX

An application has been submitted to the Foreign-Trade Zones Board (the Board) by the Brazos River Harbor Navigation District (Port Freeport), grantee of FTZ 149, requesting authority on behalf of ConocoPhillips (COP), to expand the scope of manufacturing activity conducted under zone procedures within Subzone 149C at the COP oil refinery complex in Sweeny, Texas. The application was submitted pursuant to the provisions of the Foreign-Trade Zones Act, as amended (19 U.S.C. 81a-81u), and the regulations of the Board (15 CFR part 400). It was formally filed on March 6, 2006.

Subzone 149C (205,000 BPD capacity 1,300 employees) was approved by the Board in 1997 for the manufacture of fuel products and certain petrochemical feedstocks and refinery by-products (Board Order 920, 62 FR 51830, October 3, 1997, as amended by Board Order 1116, 65 FR 52696, 8/30/00).

The subzone consists of six sites (2,095 acres) in Brazoria County: Site 1—(1,315 acres) main refinery and petrochemical complex located at 6215 Texas State Highway 35 at Farm Market Road 524, south of Sweeny; Site 2—(160 acres) Freeport I Terminal and storage facility (1.6 million barrel storage capacity) located at County Road 731, some 28 miles southeast of the refinery; Site 3—(183 acres) six crude oil storage tanks (2.4 million barrel capacity) at Jones Creek Terminal located at 6215 State Highway 36, some 17 miles southeast of the refinery; Site 4: (34 acres) San Bernard Terminal and storage facility (207,000 barrel capacity), located at County Road 378, 5 miles southeast of the refinery; Site 5: (403 acres) Clemens Terminal underground LPG storage (12.8 million barrel capacity), located at County Road 314, 15 miles east of the refinery; and Site 6: a six mile, 6” pipeline that ties into an existing COP pipeline to facilitate the movement of product from the subzone to their customer BASF. The expansion request involves modifications and upgrades to units within the refinery to increase the overall crude distillation capacity of the refinery to 260,000 BPD. No additional feedstocks or products have been requested.

Zone procedures would exempt the increased production from customs duty payments on the foreign products used in its exports. On domestic sales, the company would be able to choose the customs duty rates for certain petrochemical feedstocks (duty-free) by admitting foreign crude oil in non-privileged foreign status. The application indicates that the savings from zone procedures help improve the refinery's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building - Suite 4100W, 1099 14th St. NW., Washington, DC 20005; or

2. Submissions Via the U.S. Postal Service: Foreign-Trade-Zones Board, U.S. Department of Commerce, FCB - Suite 4100W, 1401 Constitution Ave. NW., Washington, DC 20230.

The closing period for their receipt is May 15, 2006. Rebuttal comments in response to material submitted during the foregoing period may be submitted during the subsequent 15-day period (to May 30, 2006).

A copy of the application and accompanying exhibits will be available for public inspection at the Office of the Foreign-Trade Zones Board's Executive Secretary at the first address listed above, and at the U.S. Department of Commerce, Export Assistance Center, 15600 John F. Kennedy Blvd., Suite 530, Houston, TX 77032.

Dated: March 6, 2006.
Dennis Puccinelli,
Executive Secretary.

[FR Doc. E6-3617 Filed 3-13-06; 8:45 am]

BILLING CODE 3510-DS-S